DEPARTMENT OF COMMERCE

International Trade Administration

[A-533-843]

Certain Lined Paper Products From India: Notice of Final Results of Antidumping Duty Administrative Review and Partial Rescission of Antidumping Duty Administrative Review

AGENCY: Import Administration, International Trade Administration, Department of Commerce.

SUMMARY: On October 21, 2010, the Department of Commerce (the Department) published in the Federal Register the preliminary results of the antidumping duty administrative review for certain lined paper products from India (CLPP). See Certain Lined Paper Products From India: Notice of Preliminary Results of Antidumping Duty Administrative Review, 75 FR 64988 (October 21, 2010) (Preliminary Results). This review covers 31 manufacturers and exporters of the subject merchandise.¹ On October 26, 2009, petitioner timely withdrew its request for a review of Blue Bird (India) Limited (Blue Bird). Therefore, we are rescinding this review with respect to Blue Bird.

¹ On September 30, 2009, the Department received a timely request to conduct an administrative review of the following 32 companies: Abhinav Paper Products Pvt. Ltd.; American Scholar, Inc., and/or I-Scholar; Ampoules & Vials Mfg. Co., Ltd.; Bafna Exports; Cello International Pvt. Ltd (M/S Cello Paper Products); Creative Divya; Corporate Stationery Pvt. Ltd.; D.D. International; Exmart International Pvt. Ltd.; Fatechand Mahendrakumar; FFI International; Freight India Logistics Pvt. Ltd.; International Greetings Pvt. Ltd.; Lodha Offset Limited; Magic International Pvt. Ltd.; Marigold ExIm Pvt. Ltd.; Marisa International; Navneet Publications (India) Ltd.; Paperwise Inc.; Pioneer Stationery Pvt. Ltd.; Premier Exports; Riddhi Enterprises; SAB International; SAR Transport Systems; Seet Kamal International; Solitaire Logistics Pvt. Ltd. (Eternity Int'l Freight, forwarder on behalf of Solitaire Logistics Pvt. Ltd.); Sonal Printers Pvt. Ltd.; Super Impex; Swati Growth Funds Ltd.; V & M; and Yash Laminates.

As a result of our analysis of the comments received, these final results differ from the Preliminary Results.

For our final results, we continue to find that Navneet did not make sales of subject merchandise at less than normal value (NV) (i.e., sales were made at de minimis dumping margins). We also find that U.S. sales have not been made below NV by Super Impex. In addition, based on the final results for Super Impex, we have determined that the 29 remaining non-selected companies will receive the non-selected respondent rate from the previous review.

DATES: Effective Date: February 28, 2011.

FOR FURTHER INFORMATION CONTACT: Stephanie Moore (Navneet) and Cindy Robinson (Super Impex), AD/CVD Operations, Office 3, Import Administration, International Trade Administration, U.S. Department of Commerce, 14th Street and Constitution Avenue, NW., Washington, DC 20230; telephone: (202) 482-3692, (202) 482-3797, respectively.

SUPPLEMENTARY INFORMATION:

Background

On January 29, 2010, the Department selected Navneet and Super Impex as companies to be individually examined in this administrative review of the antidumping duty order on CLPP from India. See Memorandum to Melissa Skinner, Director, Office 3 Through James Terpstra, Program Manager, Office 3 from Stephanie Moore, Case Analyst titled “Antidumping Duty Administrative Review of Certain Lined Paper Products from India: Selection of Respondents for Individual Review” (Respondent Selection Memo), dated January 29, 2010.

As stated in the Preliminary Results, on October 26, 2009, petitioner timely withdrew its request for a review of Blue Bird. Pursuant to 19 CFR 351.213(d)(1), the Secretary will rescind an administrative review, in whole or in part, if the parties that requested a review withdraw the request within 90 days of the date of publication of the notice of initiation of the requested review. The instant review was initiated on October 26, 2009. See Initiation of Antidumping and Countervailing Duty Administrative Reviews and Request for Revocation in Part, 74 FR 54956 (October 26, 2009) (Initiation Notice). The petitioner's withdrawal of request for a review of Blue Bird falls within the 90-day deadline for rescission by the Department, and no other party requested an administrative review of this particular respondent. Therefore, in accordance with 19 CFR 351.213(d)(1), and consistent with our practice, we are rescinding this review with respect to Blue Bird. See, e.g., Lightweight Thermal Paper from Germany: Notice of Partial Rescission of Antidumping Duty Administrative Review, 75 FR 11135 (March 10, 2010).

On October 21, 2010, the Department published the Preliminary Results. On October 25, 2010, petitioner submitted additional factual information obtained from the Web site http://www.cellopapers.com/ruled-plain-papers.html, pursuant to 19 CFR 351.301(b)(2).

Comments From Interested Parties

We invited parties to comment on our Preliminary Results. Case briefs were filed on November 18, 2010, by Super Impex and on November 23, 2010, by petitioner and Navneet. On December 13 and 14, 2010, Super Impex and petitioner, respectively, filed rebuttal briefs.

Scope of the Order

The scope of this order includes certain lined paper products, typically school supplies (for purposes of this scope definition, the actual use of or labeling these products as school supplies or non-school supplies is not a defining characteristic) composed of or including paper that incorporates straight horizontal and/or vertical lines on ten or more paper sheets (there shall be no minimum page requirement for loose leaf filler paper) including but not limited to such products as single- and multi-subject notebooks, composition books, wireless notebooks, loose leaf or glued filler paper, graph paper, and laboratory notebooks, and with the smaller dimension of the paper measuring 6 inches to 15 inches (inclusive) and the larger dimension of the paper measuring 8-3/4 inches to 15 inches (inclusive). Page dimensions are measured size (not advertised, stated, or “tear-out” size), and are measured as they appear in the product (i.e., stitched and folded pages in a notebook are measured by the size of the page as it appears in the notebook page, not the size of the unfolded paper). However, for measurement purposes, pages with tapered or rounded edges shall be measured at their longest and widest points. Subject lined paper products may be loose, packaged or bound using any binding method (other than case bound through the inclusion of binders board, a spine strip, and cover wrap). Subject merchandise may or may not contain any combination of a front cover, a rear cover, and/or backing of any composition, regardless of the inclusion of images or graphics on the cover, backing, or paper. Subject merchandise is within the scope of this order whether or not the lined paper and/or cover are hole punched, drilled, perforated, and/or reinforced. Subject merchandise may contain accessory or informational items including but not limited to pockets, tabs, dividers, closure devices, index cards, stencils, protractors, writing implements, reference materials such as mathematical tables, or printed items such as sticker sheets or miniature calendars, if such items are physically incorporated, included with, or attached to the product, cover and/or backing thereto.

Specifically excluded from the scope of this order are:

• Unlined copy machine paper;

• Writing pads with a backing (including but not limited to products commonly known as “tablets,” “note pads,” “legal pads,” and “quadrille pads”), provided that they do not have a front cover (whether permanent or removable). This exclusion does not apply to such writing pads if they consist of hole-punched or drilled filler paper;

• Three-ring or multiple-ring binders, or notebook organizers incorporating such a ring binder provided that they do not include subject paper;

• Index cards;

• Printed books and other books that are case bound through the inclusion of binders board, a spine strip, and cover wrap;

• Newspapers;

• Pictures and photographs;

• Desk and wall calendars and organizers (including but not limited to such products generally known as “office planners,” “time books,” and “appointment books”);

• Telephone logs;

• Address books;

• Columnar pads & tablets, with or without covers, primarily suited for the recording of written numerical business data;

• Lined business or office forms, including but not limited to: pre-printed business forms, lined invoice pads and paper, mailing and address labels, manifests, and shipping log books;

• Lined continuous computer paper;

• Boxed or packaged writing stationary (including but not limited to products commonly known as “fine business paper,” “parchment paper,” and “letterhead”), whether or not containing a lined header or decorative lines;

• Stenographic pads (“steno pads”), Gregg ruled (“Gregg ruling” consists of a single- or double-margin vertical ruling line down the center of the page. For a six-inch by nine-inch stenographic pad, the ruling would be located approximately three inches from the left of the book), measuring 6 inches by 9 inches;

Also excluded from the scope of this order are the following trademarked products:

• Fly ™ lined paper products: A notebook, notebook organizer, loose or glued note paper, with papers that are printed with infrared reflective inks and readable only by a Fly ™ pen-top computer. The product must bear the valid trademark Fly ™ (products found to be bearing an invalidly licensed or used trademark are not excluded from the scope).

• Zwipes ™: A notebook or notebook organizer made with a blended polyolefin writing surface as the cover and pocket surfaces of the notebook, suitable for writing using a specially-developed permanent marker and erase system (known as a Zwipes ™ pen). This system allows the marker portion to mark the writing surface with a permanent ink. The eraser portion of the marker dispenses a solvent capable of solubilizing the permanent ink allowing the ink to be removed. The product must bear the valid trademark Zwipes ™ (products found to be bearing an invalidly licensed or used trademark are not excluded from the scope).

• FiveStar ®Advance ™: A notebook or notebook organizer bound by a continuous spiral, or helical, wire and with plastic front and rear covers made of a blended polyolefin plastic material joined by 300 denier polyester, coated on the backside with PVC (poly vinyl chloride) coating, and extending the entire length of the spiral or helical wire. The polyolefin plastic covers are of specific thickness; front cover is 0.019 inches (within normal manufacturing tolerances) and rear cover is 0.028 inches (within normal manufacturing tolerances). Integral with the stitching that attaches the polyester spine covering, is captured both ends of a 1″ wide elastic fabric band. This band is located 2-3/8″ from the top of the front plastic cover and provides pen or pencil storage. Both ends of the spiral wire are cut and then bent backwards to overlap with the previous coil but specifically outside the coil diameter but inside the polyester covering. During construction, the polyester covering is sewn to the front and rear covers face to face (outside to outside) so that when the book is closed, the stitching is concealed from the outside. Both free ends (the ends not sewn to the cover and back) are stitched with a turned edge construction. The flexible polyester material forms a covering over the spiral wire to protect it and provide a comfortable grip on the product. The product must bear the valid trademarks FiveStar ®Advance ™ (products found to be bearing an invalidly licensed or used trademark are not excluded from the scope).

• FiveStar Flex ™: A notebook, a notebook organizer, or binder with plastic polyolefin front and rear covers joined by 300 denier polyester spine cover extending the entire length of the spine and bound by a 3-ring plastic fixture. The polyolefin plastic covers are of a specific thickness; front cover is 0.019 inches (within normal manufacturing tolerances) and rear cover is 0.028 inches (within normal manufacturing tolerances). During construction, the polyester covering is sewn to the front cover face to face (outside to outside) so that when the book is closed, the stitching is concealed from the outside. During construction, the polyester cover is sewn to the back cover with the outside of the polyester spine cover to the inside back cover. Both free ends (the ends not sewn to the cover and back) are stitched with a turned edge construction. Each ring within the fixture is comprised of a flexible strap portion that snaps into a stationary post which forms a closed binding ring. The ring fixture is riveted with six metal rivets and sewn to the back plastic cover and is specifically positioned on the outside back cover. The product must bear the valid trademark FiveStar Flex ™ (products found to be bearing an invalidly licensed or used trademark are not excluded from the scope).

Merchandise subject to this order is typically imported under headings 4810.22.5044, 4811.90.9050, 4811.90.9090, 4820.10.2010, 4820.10.2020, 4820.10.2030, 4820.10.2040, 4820.10.2050, 4820.10.2060, and 4820.10.4000 of the Harmonized Tariff Schedule of the United States (HTSUS). The HTSUS headings are provided for convenience and customs purposes; however, the written description of the scope of the order is dispositive.

Period of Review

The period of review (POR) is September 1, 2008, through August 31, 2009.

Analysis of Comments Received

All issues raised in the case and rebuttal briefs by parties to this administrative review are addressed in the accompanying Issues and Decision Memorandum (I&D Memo), which is hereby adopted by this notice. A list of the issues which parties have raised, and to which we have responded in the Issues and Decision Memorandum, is attached to this notice as an Appendix. In addition, a complete version of the I&D Memo can be accessed directly on the Internet at http://ia.ita.doc.gov/frn. The paper copy and electronic version of the I&D Memo are identical in content.

Changes Since the Preliminary Results

Based on comments received from the interested parties, we have made the following company-specific changes to Super Impex's margin calculation: (1) The Department relied solely on Blue Bird's financial statement for the year 2008-2009 submitted by Super Impex on July 7, 2010, to calculate the selling expenses and profit ratios for Super Impex; (2) the Department revised its SAS programming language by directly inputting a formula to derive the countervailing duty (CVD) offsets, rather than using the CVD amounts reported by Super Impex; and (3) the Department revised its SAS programming by including commissions as the only direct selling expense in the circumstance of sales adjustment. See I&D Memo and the Analysis Memorandum to File through James Terpstra, Program Manager, from Cindy Robinson for Super Impex Regarding “Final Results of Antidumping Duty Administrative Review of Certain Lined Paper Products from India,” dated February 18, 2011, for further details.

Final Results of Review

We determine that the following weighted-average margins exist:

Exporter | Weighted average margin (percent)
Navneet Publications (India) Ltd | 0.43 (de minimis)
Super Impex | 0.28 (de minimis)

Review-Specific Average Rate Applicable to the 29 Non-Selected Companies Subject to This Review: Our normal practice is to base this rate on the margins calculated for those companies that were selected for individual review, excluding de minimis margins or margins based entirely on adverse facts available. However, in this review, we only have de minimis margins for the companies selected for individual review. Accordingly, we determine that the most appropriate margin available for us to use for the non-selected companies in this review is the average of the margins, other than those which are zero, de minimis, or based on total facts available, that we found for the most recent period in which there were such margins. Therefore, the margin we have assigned to the 29 non-selected companies for the final results of this administrative review is 1.34 percent.² (Certain Lined Paper Products from India: Notice of Final Results of Antidumping Duty Administrative Review 75 FR 7563 (February 22, 2010).

² This rate is based on the margins calculated for those companies that were selected for individual review, excluding de minimis margins or margins based entirely on adverse facts available, in the most recently completed segment of this proceeding.

Exporter | Weighted average margin (percent)
Abhinav Paper Products Pvt. Ltd | 1.34
American Scholar, Inc. and/or I-Scholar | 1.34
Ampoules & Vials Mfg. Co. Ltd | 1.34
Bafna Exports | 1.34
Cello International Pvt. Ltd. (M/S Cello Paper Products) | 1.34
Corporate Stationary Pvt. Ltd | 1.34
Creative Divya | 1.34
D.D. International | 1.34
Exmart International Pvt. Ltd | 1.34
Fatechand Mahendrakumar | 1.34
FFI International | 1.34
Freight India Logistics Pvt. Ltd | 1.34
International Greetings Pvt. Ltd | 1.34
Lodha Offset Limited | 1.34
Magic International | 1.34
Marigold ExIm Pvt. Ltd | 1.34
Marisa International | 1.34
Paperwise Inc | 1.34
Pioneer Stationery Pvt. Ltd | 1.34
Premier Exports | 1.34
Riddhi Enterprises | 1.34
SAB International | 1.34
Sar Transport Systems | 1.34
Seet Kamal International | 1.34
Solitaire Logistics Pvt. Ltd. (Eternity Int'l Freight, forwarder on behalf of Solitaire Logistics Pvt. Ltd.) | 1.34
Sonal Printers Pvt Ltd | 1.34
Swati Growth Funds Ltd | 1.34
V & M | 1.34
Yash Laminates | 1.34

Assessment Rates

Pursuant to these final results, the Department has determined, and U.S. Customs and Border Protection (CBP) shall assess, antidumping duties on all appropriate entries. Pursuant to 19 CFR 351.212(b)(1), we calculated importer-specific ad valorem duty assessment rates based on the ratio of the total amount of the antidumping margins calculated for the examined sales to the total entered value of the examined sales for that importer. Where the assessment rate is above de minimis, we will instruct CBP to assess duties on all entries of subject merchandise by that importer. Pursuant to 19 CFR 351.106(c)(2), we will instruct CBP to liquidate without regard to antidumping duties any entries for which the assessment rate is de minimis (i.e., less than 0.50 percent). The Department intends to issue assessment instructions directly to CBP 15 days after publication of the final results of this review.

The Department clarified its “automatic assessment” regulation on May 6, 2003. See Antidumping and Countervailing Duty Proceedings: Assessment of Antidumping Duties, 68 FR 23954, (May 6, 2003) (Assessment Policy Notice). This clarification applies to POR entries of subject merchandise produced by companies examined in this review (i.e., companies for which a dumping margin was calculated) where the companies did not know that their merchandise was destined for the United States. In such instances, we will instruct CBP to liquidate unreviewed entries at the 3.91 percent all-others rate for India if there is no company-specific rate for an intermediary company(ies) involved in the transaction. See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Lined Paper Orders). See also Assessment Policy Notice, 68 FR at 23954.

Cash Deposit Requirements

The following deposit requirements will be effective upon publication of these final results for all shipments of CLPP from India entered, or withdrawn from warehouse, for consumption on or after the publication date of the final results of this administrative review, as provided by section 751(a) of the Act: (1) For companies covered by this review, the cash deposit rate will be the rates listed above; (2) for previously reviewed or investigated companies other than those covered by this review, the cash deposit rate will be the company-specific rate established for the most recent period; (3) if the exporter is not a firm covered in this review, a prior review, or the less-than-fair-value investigation, but the producer is, the cash deposit rate will be the rate established for the most recent period for the manufacturer of the subject merchandise; and (4) if neither the exporter nor the producer is a firm covered in this review, a prior review, or the investigation, the cash deposit rate will be 3.91 percent, the all-others rate established in the less-than-fair-value investigation. These deposit requirements, when imposed, shall remain in effect until further notice.

Reimbursement of Duties

This notice also serves as a final reminder to importers of their responsibility under 19 CFR 351.402(f) to file a certificate regarding the reimbursement of antidumping and/or countervailing duties prior to liquidation of the relevant entries during this review period. Failure to comply with this requirement could result in the presumption that reimbursement of antidumping and/or countervailing duties occurred and the subsequent increase in antidumping duties by the amount of antidumping and/or countervailing duties reimbursed.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and the terms of an APO is a sanctionable violation.

We are issuing and publishing this notice in accordance with sections 751(a)(1) and 777(i)(1) of the Act.

Dated: February 18, 2011.
Ronald K Lorentzen,
Deputy Assistant Secretary for Import Administration.

APPENDIX I

List of Comments in the Accompanying Issues and Decision Memorandum

Company-Specific Issues

Super Impex

Comment 1: Methodology for Calculations of Interest, Selling, General & Administrative (G&A) Expenses, and Profit

Comment 2: Whether to Include Cello Writing Instruments & Containers Private Ltd. (Cello)'s Financial Data

Comment 3: Financial Statement(s) for Use in Determining Constructed Value (CV) Selling Expenses and Profit

Comment 4: Simple Average versus Weighted Average

Comment 5: Selling Expenses and Circumstances of Sales (COS) Adjustment in a CV Scenario

Comment 6: Calculation of Countervailing Duty (CVD) Adjustment

Navneet

Comment 7: Whether the Department Used the Revised Sales Databases

Comment 8: Navneet's Model Match Sub-Codes

Comment 9: Treatment of Merchandising Expense

Comment 10: Treatment of Negative Dumping Margins (Zeroing)

[FR Doc. 2011-4392 Filed 2-25-11; 8:45 am]

BILLING CODE 3510-DS-P